DEPARTMENT OF THE INTERIOR

National Park Service

[NPS-WASO-NAGPRA-13367; PPWOCRADN0-PCU00RP14.R50000]

Notice of Intent To Repatriate a Cultural Item: U.S. Department of the Interior, National Park Service, Little Bighorn Battlefield National Monument, Crow Agency, MT

AGENCY: National Park Service, Interior.

ACTION: Notice.

SUMMARY: The U.S. Department of the Interior, National Park Service, Little Bighorn Battlefield National Monument, in consultation with the appropriate Indian tribes or Native Hawaiian organizations, has determined that the cultural item listed in this notice meets the definition of sacred object. Lineal descendants or representatives of any Indian tribe or Native Hawaiian organization not identified in this notice that wish to claim the cultural item should submit a written request to Little Bighorn Battlefield National Monument. If no additional claimants come forward, transfer of control of the cultural item to the lineal descendants, Indian tribes, or Native Hawaiian organizations stated in this notice may proceed.

DATES: Lineal descendants or representatives of any Indian tribe or Native Hawaiian organization not identified in this notice that wish to claim the cultural item should submit a written request with information in support of the claim to Little Bighorn Battlefield National Monument at the address in this notice by August 29, 2013.

ADDRESSES: Denice Swanke, Superintendent, Little Bighorn Battlefield National Monument, P.O. Box 39, Crow Agency, MT 59022-0039, telephone (406) 638-3201, email denice_swanke@nps.gov.

SUPPLEMENTARY INFORMATION: Notice is here given in accordance with the Native American Graves Protection and Repatriation Act (NAGPRA), 25 U.S.C. 3005, of the intent to repatriate a cultural item under the control of the U.S. Department of the Interior, National Park Service, Little Bighorn Battlefield National Monument, Crow Agency, MT, that meets the definition of sacred object under 25 U.S.C. 3001.

This notice is published as part of the National Park Service's administrative responsibilities under NAGPRA, 25 U.S.C. 3003(d)(3). The determinations in this notice are the sole responsibility of the Superintendent, Little Bighorn Battlefield National Monument.

History and Description of the Cultural Item

In 1951, one cultural item was donated to Custer Battlefield National Monument, now known as Little Bighorn Battlefield National Monument, by the Rapid City Indian Museum of the Bureau of Indian Affairs in Rapid City, SD, which had collected the item from John A. Anderson. It is believed that Anderson moved to the Rosebud Reservation in 1889 where he worked for the C.P. Jordan Trading Post and as a photographer. Later, after Mr. Jordan retired, Anderson became the owner/manager of the trading post. Over a span of 45 years, Anderson acquired historic objects through trade or purchase that represented the life ways of the area people. The one sacred object is a red catlinite pipe that originally belonged to, and was used by, the Lakota Chief Hollow Horn Bear. The bowl is slightly ornamented with carvings toward the stem and the stem is carved at each end.

Duane Hollow Horn Bear, great-grandson of Chief Hollow Horn Bear, is requesting repatriation of the cultural item described above. The pipe is needed by Mr. Hollow Horn Bear to continue traditional ceremonies. The Rosebud Sioux Tribal Historic Preservation Office corroborated Little Bighorn Battlefield National Monument's determination that Duane Hollow Horn Bear is the most appropriate recipient under the Rosebud traditional kinship system and common law system of descendance.

Determinations Made by Little Bighorn Battlefield National Monument

Officials of Little Bighorn Battlefield National Monument have determined that:

• Pursuant to 25 U.S.C. 3001(3)(C), the one cultural item described above is a specific ceremonial object needed by traditional Native American religious leaders for the practice of traditional Native American religions by their present-day adherents.

• Pursuant to 25 U.S.C. 3005(a)(5)(A), Mr. Duane Hollow Horn Bear is the direct lineal descendant of the individual who owned the sacred object.

Additional Requestors and Disposition

Lineal descendants or representatives of any Indian tribe or Native Hawaiian organization not identified in this notice that wish to claim this cultural item should submit a written request with information in support of the claim to Denice Swanke, Superintendent, Little Bighorn Battlefield National Monument, P.O. Box 39, Crow Agency, MT 59022-0039, telephone (406) 638-3201, email denice_swanke@nps.gov, by August 29, 2013. After that date, if no additional claimants have come forward, transfer of control of the sacred object to Mr. Hollow Horn Bear may proceed.

Little Bighorn Battlefield National Monument is responsible for notifying the Arapaho Tribe of the Wind River Reservation, Wyoming; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Cheyenne Tribe of the Northern Cheyenne Indian Reservation, Montana; Oglala Sioux Tribe (previously listed as the Oglala Sioux Tribe of the Pine Ridge Reservation, South Dakota); Rosebud Sioux Tribe of the Rosebud Indian Reservation, South Dakota; Santee Sioux Nation, Nebraska; Sisseton-Wahpeton Oyate of the Lake Traverse Reservation, South Dakota; Spirit Lake Tribe, North Dakota; Standing Rock Sioux Tribe of North & South Dakota; Three Affiliated Tribes of the Fort Berthold Reservation, North Dakota; and Yankton Sioux Tribe of South Dakota that this notice has been published.

Dated: June 20, 2013.
Sherry Hutt,
Manager, National NAGPRA Program.

[FR Doc. 2013-18318 Filed 7-29-13; 8:45 am]

BILLING CODE 4312-50-P